DEPARTMENT OF ENERGY

Federal Energy Regulatory Commission

Notice of Commission Staff Attendance

The Federal Energy Regulatory Commission hereby gives notice that members of the Commission's staff may attend the following teleconference related to the transmission planning activities of the Southwest Power Pool, Inc. (SPP):

Seams FERC Order 1000 Task Force

June 11, 2012, 9 a.m.-11 p.m. CDT

The above-referenced teleconference is open to stakeholders.

Further information may be found at www.spp.org.

The discussions at the meetings described above may address matters at issue in the following proceedings:

Docket No. ER09-35-001, Tallgrass Transmission, LLC

Docket No. ER09-36-001, Prairie Wind Transmission, LLC

Docket No. ER09-548-001, ITC Great Plains, LLC

Docket No. ER11-4105-000, Southwest Power Pool, Inc.

Docket No. EL11-34-001, Midwest Independent Transmission System Operator, Inc.

Docket No. ER11-3967-002, Southwest Power Pool, Inc.

Docket No. ER11-3967-003, Southwest Power Pool, Inc.

Docket No. ER12-1179-000, Southwest Power Pool, Inc.

Docket No. ER12-1415-000, Southwest Power Pool, Inc.

Docket No. ER12-1460-000, Southwest Power Pool, Inc.

Docket No. ER12-1610-000, Southwest Power Pool, Inc.

For more information, contact Luciano Lima, Office of Energy Markets Regulation, Federal Energy Regulatory Commission at (202) 502-6210 or luciano.lima@ferc.gov.

Dated: June 8, 2012.
Kimberly D. Bose,
Secretary.

[FR Doc. 2012-14618 Filed 6-14-12; 8:45 am]

BILLING CODE 6717-01-P